DEPARTMENT OF ENERGY

Federal Energy Regulatory Commission

Combined Notice of Filings #2

Take notice that the Commission received the following electric rate filings:

Docket Numbers: ER10-3079-006; ER12-126-008; ER11-2539-003; ER11-2540-003; ER11-2542-003.

Applicants: Tyr Energy, LLC, Trademark Merchant Energy, LLC, Plains End, LLC, Plains End II, LLC, Rathdrum Power, LLC.

Description: Updated Market Power Analysis for Northwest Region of Tyr Energy, LLC, et al.

Filed Date: 12/27/13.

Accession Number: 20131227-5096.

Comments Due: 5 p.m. ET 2/26/14.

Docket Numbers: ER12-540-005; ER12-539-005; ER10-1414-005; ER10-1346-005; ER10-1348-005; ER12-2205-004; ER10-1821-008; ER11-4475-008.

Applicants: APDC, Inc., Atlantic Power Energy Services (US) LLC, Frederickson Power L.P., Manchief Power Company LLC, Meadow Creek Project Company LLC, Rockland Wind Farm LLC, Goshen Phase II LLC.

Description: Updated Market Power Analysis of APDC, Inc., et. al.

Filed Date: 12/27/13.

Accession Number: 20131227-5101.

Comments Due: 5 p.m. ET 2/26/14.

Docket Numbers: ER13-2233-001.

Applicants: Midcontinent Independent System Operator, Inc.

Description: 12-26-2013 Order 764 Compliance Filing to be effective 1/6/2014.

Filed Date: 12/27/13.

Accession Number: 20131227-5031.

Comments Due: 5 p.m. ET 1/17/14.

Docket Numbers: ER13-2490-002.

Applicants: Simon Solar, LLC.

Description: Name Change/Correction to be effective 10/1/2013.

Filed Date: 12/27/13.

Accession Number: 20131227-5042.

Comments Due: 5 p.m. ET 1/17/14.

Docket Numbers: ER14-846-000.

Applicants: Northern States Power Company, a Minnesota Corporation.

Description: 2013-12-27_NSP Interchange Agrmt Amended Exhibits Filing to be effective 1/1/2013.

Filed Date: 12/27/13.

Accession Number: 20131227-5029.

Comments Due: 5 p.m. ET 1/17/14.

Docket Numbers: ER14-847-000.

Applicants: Burley Butte Wind Park, LLC.

Description: Burley Triennial to be effective 12/27/2013.

Filed Date: 12/27/13.

Accession Number: 20131227-5036.

Comments Due: 5 p.m. ET 2/26/14.

Docket Numbers: ER14-848-000.

Applicants: Camp Reed Wind Park, LLC.

Description: Camp Triennial to be effective 12/27/2013.

Filed Date: 12/27/13.

Accession Number: 20131227-5037.

Comments Due: 5 p.m. ET 2/26/14.

Docket Numbers: ER14-849-000.

Applicants: Golden Valley Wind Park, LLC.

Description: Golden Triennial to be effective 12/27/2013.

Filed Date: 12/27/13.

Accession Number: 20131227-5038.

Comments Due: 5 p.m. ET 2/26/14.

Docket Numbers: ER14-850-000.

Applicants: Milner Dam Wind Park, LLC.

Description: Milner Triennial to be effective 12/27/2013.

Filed Date: 12/27/13.

Accession Number: 20131227-5039.

Comments Due: 5 p.m. ET 2/26/14.

Docket Numbers: ER14-851-000.

Applicants: Oregon Trail Wind Park, LLC.

Description: Oregon Triennial & Update to be effective 12/27/2013.

Filed Date: 12/27/13.

Accession Number: 20131227-5040.

Comments Due: 5 p.m. ET 2/26/14.

Docket Numbers: ER14-852-000.

Applicants: Pilgrim Stage Station Wind Park, LLC.

Description: Pilgrim Triennial to be effective 12/27/2013.

Filed Date: 12/27/13.

Accession Number: 20131227-5041.

Comments Due: 5 p.m. ET 2/26/14.

Docket Numbers: ER14-853-000.

Applicants: Payne's Ferry Wind Park, LLC.

Description: Payne's Triennial to be effective 12/27/2013.

Filed Date: 12/27/13.

Accession Number: 20131227-5043.

Comments Due: 5 p.m. ET 2/26/14.

Docket Numbers: ER14-854-000.

Applicants: Salmon Falls Wind Park, LLC.

Description: Salmon Triennial to be effective 12/27/2013.

Filed Date: 12/27/13.

Accession Number: 20131227-5044.

Comments Due: 5 p.m. ET 2/26/14.

Docket Numbers: ER14-855-000.

Applicants: Thousand Springs Wind Park, LLC.

Description: Thousand Triennial to be effective 12/27/2013.

Filed Date: 12/27/13.

Accession Number: 20131227-5045.

Comments Due: 5 p.m. ET 2/26/14.

Docket Numbers: ER14-856-000.

Applicants: Tuana Gulch Wind Park, LLC.

Description: Tuana Triennial to be effective 12/27/2013.

Filed Date: 12/27/13.

Accession Number: 20131227-5046.

Comments Due: 5 p.m. ET 2/26/14.

Docket Numbers: ER14-857-000.

Applicants: Yahoo Creek Wind Park, LLC.

Description: Yahoo Triennial to be effective 12/27/2013.

Filed Date: 12/27/13.

Accession Number: 20131227-5047.

Comments Due: 5 p.m. ET 2/26/14.

Docket Numbers: ER14-858-000.

Applicants: Norwalk Power LLC.

Description: Amendment to Tariff to be effective 12/28/2013.

Filed Date: 12/27/13.

Accession Number: 20131227-5072.

Comments Due: 5 p.m. ET 1/17/14.

Docket Numbers: ER14-859-000.

Applicants: Midcontinent Independent System Operator, Inc.

Description: 12-27-13 SPP JOA Amendment 3 to be effective 3/1/2014.

Filed Date: 12/27/13.

Accession Number: 20131227-5083.

Comments Due: 5 p.m. ET 1/17/14.

Docket Numbers: ER14-860-000.

Applicants: Public Service Company of Colorado.

Description: 2013-12-27_Amended JOA Agrmt Filing to be effective 3/1/2014.

Filed Date: 12/27/13.

Accession Number: 20131227-5085.

Comments Due: 5 p.m. ET 1/17/14.

Docket Numbers: ER14-861-000.

Applicants: Public Service Company of Colorado.

Description: 20131227 PSCo MBR Filing to be effective 3/1/2014.

Filed Date: 12/27/13.

Accession Number: 20131227-5086.

Comments Due: 5 p.m. ET 1/17/14.

Docket Numbers: ER14-862-000.

Applicants: Midcontinent Independent System Operator, Inc.

Description: 12-27-13 MISO-PJM JOA to be effective 2/26/2014.

Filed Date: 12/27/13.

Accession Number: 20131227-5094.

Comments Due: 5 p.m. ET 1/17/14.

Docket Numbers: ER14-863-000.

Applicants: Southwest Power Pool, Inc.

Description: SPP-MISO JOA Emergency Energy Assistance Revisions to be effective 3/1/2014.

Filed Date: 12/27/13.

Accession Number: 20131227-5099.

Comments Due: 5 p.m. ET 1/17/14.

Docket Numbers: ER14-864-000.

Applicants: New York Independent System Operator, Inc.

Description: NYISO Tariff Filing to Implement Improved Proxy Gen Bus Pricing Rules to be effective 4/8/2014.

Filed Date: 12/27/13.

Accession Number: 20131227-5100.

Comments Due: 5 p.m. ET 1/17/14.

Docket Numbers: ER14-865-000.

Applicants: Southwestern Public Service Company.

Description: 2013-12-27_SPS SPP MBR Filing to be effective 3/1/2014.

Filed Date: 12/27/13.

Accession Number: 20131227-5119.

Comments Due: 5 p.m. ET 1/17/14.

Docket Numbers: ER14-866-000.

Applicants: Southwest Power Pool, Inc.

Description: Order No. 784 Compliance to be effective 3/1/2014.

Filed Date: 12/27/13.

Accession Number: 20131227-5117.

Comments Due: 5 p.m. ET 1/17/14.

Docket Numbers: ER14-867-000.

Applicants: AEP Energy, Inc.

Description: AEP Energy MBR Revision to be effective 3/1/2014.

Filed Date: 12/27/13.

Accession Number: 20131227-5121.

Comments Due: 5 p.m. ET 1/17/14.

Docket Numbers: ER14-868-000.

Applicants: AEP Retail Energy Partners.

Description: AEP Retail Energy Partners MBR Revision to be effective 3/1/2014.

Filed Date: 12/27/13.

Accession Number: 20131227-5122.

Comments Due: 5 p.m. ET 1/17/14.

Docket Numbers: ER14-869-000.

Applicants: AEP Texas Central Company.

Description: CSW Oper Co MBR Revision to be effective 3/1/2014.

Filed Date: 12/27/13.

Accession Number: 20131227-5123.

Comments Due: 5 p.m. ET 1/17/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 27, 2013.
Nathaniel J. Davis, Sr.,
Deputy Secretary.

[FR Doc. 2013-31578 Filed 1-3-14; 8:45 am]

BILLING CODE 6717-01-P